DEPARTMENT OF ENERGY

Federal Energy Regulatory Commission

[Docket No. RT01-10-000]

Allegheny Power; Notice of Filing

October 20, 2000.

Take notice that on October 16, 2000, Allegheny Energy Service Corporation as agent for Monongahela Power Company, The Potomac Edison Company and West Penn Power Company, all doing business as Allegheny Power, filed an RTO Compliance Filing and Petition for Declaratory Order regarding its “PJM West” proposal.

Any person desiring to be heard or to protest such filing should file a motion to intervene, comments, or protest with the Federal Energy Regulatory Commission, 888 First Street, NE, Washington, DC 20426, in accordance with rules 211 and 214 of the Commission's Rules of Practice and Procedure (18 CFR 385.211 and 385.214). All such motions, comments and protests should be filed on or before November 20, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Beginning November 1, 2000, comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-27556 Filed 10-25-00; 8:45 am]

BILLING CODE 6717-01-M